DEPARTMENT OF THE INTERIOR

National Park Service

[2253-665]

Notice of Inventory Completion: U.S. Department of Interior, Bureau of Reclamation, Upper Colorado Regional Office, Salt Lake City, UT, and Arizona State University, School of Human Evolution and Social Change, Tempe, AZ

AGENCY: National Park Service, Interior.

ACTION: Notice.

SUMMARY: The U.S. Department of the Interior, Bureau of Reclamation, Upper Colorado Region, Salt Lake City, UT, has completed an inventory of human remains, in consultation with the appropriate Indian tribe, and has determined that there is a cultural affiliation between the human remains and a present-day Indian tribe. Representatives of any Indian tribe that believes itself to be culturally affiliated with the human remains may contact the Bureau of Reclamation, Upper Colorado Region. Repatriation of the human remains to the Indian tribe stated below may occur if no additional claimants come forward.

DATES: Representatives of any Indian tribe that believes it has a cultural affiliation with the human remains should contact the agency at the address below by May 21, 2012.

ADDRESSES: Keith Waldron, U.S. Department of Interior, Bureau of Reclamation, Upper Colorado Region, 125 South State Street, Salt Lake City, UT 84138, telephone (801) 524-3816.

SUPPLEMENTARY INFORMATION: Notice is here given in accordance with the Native American Graves Protection and Repatriation Act (NAGPRA), 25 U.S.C. 3003, of the completion of an inventory of human remains in the possession of the Arizona State University, School of Human Evolution and Social Change, Tempe, AZ, and under the control of the U.S. Department of Interior, Bureau of Reclamation, Upper Colorado Region, Salt Lake City, UT. The human remains were removed from the pre-inundation archeological work for the Navajo Reservoir, in Archuleta and San Juan counties, NM.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Arizona State University, the Museum of New Mexico, and the U.S. Bureau of Reclamation, Upper Colorado Region, professional staffs in consultation with representatives of the Navajo Nation, Arizona, New Mexico and Utah.

History and Description of the Remains

In 1985, human remains representing, at minimum, one individual were recovered from site LA 54175, an isolated burial in San Juan County, NM, during legally authorized excavations and collections by the Complete Archaeological Services at the Navajo Reservoir. These human remains are presently curated at the Arizona State University, School of Human Evolution and Social Change. No known individuals were identified. No associated funerary objects are present. Based on the nature of the remains and the location, the burial has been identified as historic period Navajo, dating to A.D. 1700-1800.

In 1959, human remains representing, at minimum, one individual were recovered from site LA 4212 in Archuleta County, NM, during an archeological survey by the Museum of New Mexico as part of the Navajo Reservoir Project. The site is an historic structure dating to A.D. 1890-1925, and the remains were noted as “from a pot-hunted burial.” The cranium exhibits no cranial deformation, suggesting a probable Navajo affiliation; however, the cranium and mandible are not clearly identifiable as culturally affiliated with an Indian tribe. Given the totality of circumstances surrounding the acquisition of the human remains, they are most likely Navajo. These human remains are presently curated by the Arizona State University, School of Human Evolution and Social Change. No known individual was identified. No associated funerary objects are present.

In 1958, human remains representing, at minimum, one individual with possible fragments of a second individual were recovered from site LA 4072 in San Juan County, NM, during legally authorized excavations and collections by the Museum of New Mexico as part of the Navajo Reservoir Project. These human remains are presently curated by the Arizona State University, School of Human Evolution and Social Change. No known individual was identified. No associated funerary objects are present. Based on material culture, site LA 4072 has been identified as dating to the period A.D. 1500-1775 which includes both the Dinétah and Gobernador phases.

Physical anthropological traits, burial customs, geography, and oral traditions indicate affiliation of the human remains listed above with the historic and present-day Navajo Nation, Arizona, New Mexico and Utah.

Determinations Made by the U.S. Department of Interior, Bureau of Reclamation, Upper Colorado Regional Office, Salt Lake City, UT

Officials of the U.S. Bureau of Reclamation, Upper Colorado Region have determined that:

• Pursuant to 25 U.S.C. 3001(9), the human remains described in this notice represent the physical remains of a minimum of three individuals of Native American ancestry.

• Pursuant to 25 U.S.C. 3001(2), there is a relationship of shared group identity that can be reasonably traced between the Native American human remains and the Navajo Nation, Arizona, New Mexico and Utah.

Additional Requestors and Disposition

Representatives of any Indian tribe that believes itself to be culturally affiliated with the human remains should contact Keith Waldron, U.S. Bureau of Reclamation, 125 South State Street, Salt Lake City, UT 84138, telephone (801) 524-3816, before May 21, 2012. Repatriation of the human remains to the Navajo Nation, Arizona, New Mexico and Utah may proceed after that date if no additional claimants come forward.

The U.S. Bureau of Reclamation, Upper Colorado Region is responsible for notifying the Navajo Nation, Arizona, New Mexico and Utah that this notice has been published.

Dated: April 12, 2012.
David Tarler,
Acting Manager, National NAGPRA Program.

[FR Doc. 2012-9436 Filed 4-18-12; 8:45 am]

BILLING CODE 4312-50-P